DEPARTMENT OF AGRICULTURE

Forest Service

Nebraska Travel Management Rule Implementation Project; Nebraska National Forest, Nebraska and South Dakota

AGENCY: Forest Service, USDA.

ACTION: Notice; Intent to Prepare Environmental Impact Statement.

SUMMARY: The purpose of the Nebraska Travel Management Rule Implementation project is to implement direction in the Travel Management; Designated Routes and Areas for Motor Vehicle Use; Final Rule, (36 CFR Parts 212, 251, 261, 295) commonly known as the Travel Management Rule and designate roads, trails, and areas open to motor vehicle use.

The Forest Service will prepare an environmental impact statement (EIS) to document the analysis and disclose the environmental impacts of proposed land management activities, and corresponding alternatives, within the Nebraska Travel Management Project area. The Nebraska Travel Management Rule Implementation project area is located primarily on National Forest System lands, administered by the Nebraska National Forest in northwestern Nebraska and southwestern South Dakota.

DATES: Comments concerning the proposed land management activities should be received within 30 days following publication of this notice to receive timely consideration in the preparation of the draft EIS.

ADDRESSES: Send written comments concerning the proposed land management activities or requests to be placed on the project mailing list to: Mark Reichert, Project Leader; Attention: Nebraska Travel Management Project, ACT2 Enterprise Unit, 1312 Fairlane Road, Yreka, California 96097-9549. You are welcome and encouraged to submit electronic comments in acceptable formats [plain text (.txt), rich text (.rtf) or Word (.doc)] to: mreichert@fs.fed.us.

FOR FURTHER INFORMATION CONTACT: Mark Reichert, Project Leader, ACT2 Enterprise Unit, 1312 Fairlane Road, Yreka, California 96097-9549, phone (530) 841-4422, e-mail: mreichert@fs.fed.us.

SUPPLEMENTARY INFORMATION: The information presented in this notice is included to help the reviewer determine if they are interested in or potentially affected by proposed land management activities. Information presented in this notice is summarized. Those who wish to provide comments, or are otherwise interested in or affected by the project, are encouraged to obtain additional information from the contact identified in the previous section titles: FOR FURTHER INFORMATION CONTACT.

Proposed Action—Proposed land management activities (Proposed Action) include the following, with approximate mileage and acreage values: (1) Designation of 552 miles of motorized travel, which includes 514 miles of roads (303 miles for both Highway Legal Vehicles (HLV) and Off-Highway Legal Vehicles (OHV) use, and 211 miles for HLV use only) and 38 miles of trails for OHV use (2) Designation of 5,441 acres of motorized travel.

Project History—On November 2, 2005, the Forest Service announced the Travel Management; Designated Routes and Areas for Motor Vehicle Use; Final Rule governing OHV and other motor vehicle use on national forests and grasslands. Commonly known as National Travel Management Rule, it directs all national forests and national grasslands to allow wheeled motorized vehicle travel only on designated roads, trails, and areas. This changes OHV rules on national forests to a “closed unless designated open” policy. In January of 2008, the Nebraska Travel Management Route Implementation Project is being presented to the public for comment (scoping) prior to undertaking preparation of an Environmental Impact Statement.

Responsible Officials—Four District Rangers of the Nebraska National Forest, Patti Barney, for the Bessey District Ranger, Michael McNeill, for the Fall River District Ranger, Charlie Marsh, for the Pine Ridge District Ranger, Kevin Atchley, for the Wall District Ranger, will serve in the capacity of responsible officials throughout this process. These Responsible Officials will be making project-level decisions from the project.

Decision Space—Decision-making will be limited to specific activities relating to the Proposed Action. The primary decision to be made will be whether or not to implement the Proposed Action or another alternative that responds to the project's purpose and needs.

Preliminary Issues—Comments from American Indian tribes, the public, and other agencies will be considered in identifying preliminary issues. Issues raised in similar projects have included: effects on hunting, recreation, and conflicts between different user groups.

Public Participation—The Forest Service is seeking comments from Federal, State, and local agencies, as well as local Native American tribes and other individuals or organizations that may be interested in or affected by the Proposed Action. Comments received in response to this notice will become a matter of public record. While public participation is welcome at any time, comments on the Proposed Action received within 30 days of this notice will be especially useful in the preparation of the draft EIS. Timely comments will be used to identify: Potential issues with the Proposed Action, development of alternatives to the Proposed Action that respond to identified needs and significant issues, and potential environmental effects of the Proposed Action and alternatives considered in detail. In addition, the public is encouraged to contact and/or visit Forest Service officials at any time during the planning process.

Estimated Dates for Filing—The draft EIS is expected to be filed with the Environmental Protection Agency and available for public review in August 2008. A 45-day comment period will follow publication of a Notice of Availability of the draft EIS in the Federal Register. Comments received on the draft EIS will be used in preparation of the final EIS, expected in January 2009. Four different Record of Decisions (RODs) will also be issued at that time, one for each Ranger District, along with publication of a Notice of Availability of the final EIS and RODs in the Federal Register.

Reviewer's Obligations to Comment—The Forest Service believes it is important at this early stage to give reviewers notice of several court rulings related to public participation in the environmental review process. First, reviewers of the draft EIS must structure their participation in the environmental review of the proposal in such a way that is meaningful and alerts an agency to the reviewer's position and contentions. Vermont Yankee Nuclear Power Corp. v. NRDC, 435 U.S.C. 519, 513 (1978). Also, environmental objections that could be raised at the draft EIS stage but are not raised until after completion of the final EIS may be waived or dismissed by the courts. City of Angoon v. Hodel, 803 F.2d 1016, 1022 (9th Cir, 1986), and Wisconsin Heritages Inc. v. Harris, 490 F.Supp. 1334, 1338 (E.D. Wis., 1980). Because of these court rulings, it is very important that those interested in this Proposed Action participate by the close of the 45-day comment period of the draft EIS in order that comments and objections are available to the Forest Service at a time when it can meaningfully consider them and respond to them in the final EIS. To assist the Forest Service in identifying and considering issues and concerns on the Proposed Action, comments should be as specific as possible. Reviewers may wish to refer to the Council on Environmental Quality Regulations for implementing the procedural provisions of the National Environmental Policy Act at 40 CFR 1503.3 in addressing these points.

Dated: December 18, 2007.
Don Bright,
Forest Supervisor, Nebraska National Forest, 125 North Main, Chadron, NE 69337.

[FR Doc. 08-80 Filed 1-10-08; 8:45 am]

BILLING CODE 3410-11-M